OFFICE OF THE UNITED STATES TRADE REPRESENTATIVE

Request for Comments and Notice of Public Hearing Concerning Policy Recommendations for Deepening the U.S.-Africa Trade and Investment Relationship

AGENCY: Office of the United States Trade Representative.

ACTION: Request for comments; notice of hearing.

SUMMARY: The Office of the United States Trade Representative (USTR), with the participation of other U.S. Government agencies, will convene a public hearing and seek public comment to assist in the preparation of its report to Congress on policy levers for deepening the U.S.-Africa trade and investment relationship.

DATES: Written comments are due by 11:59 p.m., Tuesday, January 19, 2016. Persons wishing to testify orally at the hearing must provide written notification of their intention, as well as a summary of their testimony, by 11:59 p.m., Tuesday, January 19, 2016. The hearing will be held on Thursday, January 28, 2016, beginning at 9:30 a.m. in the Main Hearing Room, 500 E Street SW., Washington, DC 20436.

ADDRESSES: Written comments and notifications of intent to testify should be submitted electronically via the Internet at www.regulations.gov. If you are unable to provide submissions at www.regulations.gov, please contact Yvonne Jamison at (202) 395-3475, to arrange for an alternative method of transmission.

FOR FURTHER INFORMATION CONTACT: For procedural questions concerning written comments, please contact Yvonne Jamison at (202) 395-3475. All other questions regarding this notice should be directed to Bennett Harman, Deputy Assistant United States Trade Representative for Africa, at (202) 395-9612.

SUPPLEMENTARY INFORMATION:

1. Background

The African Growth and Opportunity Act (AGOA) (Title I of the Trade and Development Act of 2000, Pub. L. 106-200) (19 U.S.C. 2466a et seq.), as amended, authorizes the President to designate sub-Saharan African countries as beneficiary sub-Saharan African countries eligible for duty-free treatment for certain additional products not included for duty-free treatment under the Generalized System of Preferences (GSP) (Title V of the Trade Act of 1974 (19 U.S.C. 2461 et seq.) (the “1974 Act”)), as well as for the preferential treatment for certain textile and apparel articles. Many developments since AGOA was enacted in 2000—including a significant increase in the number of trade agreements signed by both the United States and sub-Saharan African countries with third parties and reductions in preference programs by other developed countries such as the European Union and Canada—signal the importance for the United States to assess many policies and approaches, including those beyond preferences, to deepen the U.S.-sub-Saharan Africa trade and investment relationship. Such policies and approaches could maintain and enhance the competitiveness of U.S. companies and investors in the region while promoting sustainable, transformative development in the region. Congress also has signaled an interest in exploring such policies and approaches, and pursuant to section 110(b) of the Trade Preferences Extension Act of 2015, Public Law 114-27, required USTR to submit certain information about the prospect for free trade agreements with sub-Saharan African countries.

Accordingly, USTR is undertaking a comprehensive analysis to examine how to deepen our trade and investment relationship with sub-Saharan African countries. USTR is hereby soliciting public comment to assist in the preparation of its report.

2. Public Comment and Hearing

USTR invites written comments and/or oral testimony of interested persons on issues including, but not limited to, the following: (a) Why a deeper trade and investment relationship is critical both for African growth and for U.S. interests; (b) which trade and investment policy areas should serve as building blocks to deepen this relationship; (c) what goals should the U.S. and African partners establish with respect to each building block; and (d) what mechanisms and approaches could be used to best achieve these goals. Written comments must be received no later than 11:59 p.m., Tuesday, January 19, 2016.

A hearing will be held on Thursday, January 28, 2016, in the Main Hearing Room, 500 E Street SW., Washington, DC 20436, in the facilities of the U.S. International Trade Commission. Persons wishing to testify at the hearing must provide written notification of their intention by 11:59 p.m., Tuesday, January 19, 2016. The intent to testify notification must be made in the “Type Comment” field under docket number USTR-2015-0019 on the www.regulations.gov Web site and should include the name, address and telephone number of the person presenting the testimony. A summary of the testimony should be attached by using the “Upload File” field. The name of the file should also include who will be presenting the testimony. Remarks at the hearing should be limited to no more than five minutes to allow for possible questions from the government representatives.

3. Requirements for Submissions

Persons submitting a notification of intent to testify and/or written comments must do so in English and must identify (on the first page of the submission) “Post-AGOA Trade and Investment.” In order to be assured of consideration, comments should be submitted by 11:59 p.m., Tuesday, January 19, 2016.

In order to ensure the timely receipt and consideration of comments, USTR strongly encourages commenters to make on-line submissions, using the www.regulations.gov Web site. To submit comments via www.regulations.gov, enter docket number USTR-2015-0019 on the home page and click “search.” The site will provide a search-results page listing all documents associated with this docket. Find a reference to this notice and click on the link entitled “Comment Now!” (For further information on using the www.regulations.gov Web site, please consult the resources provided on the Web site by clicking on “How to Use Regulations.gov” on the bottom of the home page).

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov, if at all possible. Any alternative arrangements must be made with Yvonne Jamison in advance of transmitting a comment. Ms. Jamison should be contacted at (202) 395-3475. General information concerning USTR is available at www.ustr.gov. Comments will be placed in the docket and open to public inspection, except business confidential information. Comments may be viewed on the www.regulations.gov Web site by entering the relevant docket number in the search field on the home page.

Bennett M. Harman,
Acting Assistant U.S. Trade Representative for African Affairs.

[FR Doc. 2015-31324 Filed 12-11-15; 8:45 am]

BILLING CODE 3290-F6-P